DEPARTMENT OF TRANSPORTATION

Federal Aviation Administration

Notice of Intent To Rule on Application 05-10-C-00-PLN To Impose and Use the Revenue From a Passenger Facility Charge (PFC) at Pellston Regional Airport, Pellston, MI

AGENCY: Federal Aviation Administration (FAA), DOT.

ACTION: Notice of intent to rule on application.

SUMMARY: The FAA proposes to rule and invites public comment on the application to impose and use the revenue from a PFC at Pellston Regional Airport under the provisions of the 49 U.S.C. 40117 and part 158 of the Federal Aviation Regulations (14 CFR part 158).

DATES: Comments must be received on or before February 28, 2005.

ADDRESSES: Comments on this application may be mailed or delivered in triplicate to the FAA at the following address: Detroit Airports District Office, 1677 South Wayne Road, Suite 107, Romulus, Michigan 48174.

In addition, one copy of any comments submitted to the FAA must be mailed or delivered to Kelly Atkins, Airport Manager of the Pellston Regional Airport at the following address: U.S. 31 North, Pellston, Michigan 49769.

Air carriers and foreign air carriers may submit copies of written comments previously provided to the Pellston Regional Airport under section 158.23 of Part 158.

FOR FURTHER INFORMATION CONTACT: Jason Watt, Program Manager, FAA, Detroit Airports District Office, 11677 South Wayne Road, Suite 107, Romulus, Michigan 48174, (734) 229-2906. The application may be reviewed in person at this same location.

SUPPLEMENTARY INFORMATION: The FAA proposes to rule and invites public comment on the application to impose and use the revenue from a PFC at Pellston Regional Airport under the provisions of the 49 U.S.C. 40117 and part 158 of the Federal Aviation Regulations (14 CFR part 158).

On January 7, 2005, the FAA determined that the application to impose and use the revenue from a PFC submitted by Pellston Regional Airport was substantially complete within the requirements of section 158.25 of part 158. The FAA will approve or disapprove the application, in whole or in part, no later than April 7, 2005.

The following is a brief overview of the application.

Proposed charge effective date: July 1, 2011.

Proposed charge expiration date: July 1, 2013.

Level of the proposed PFC: $4.50.

Total estimated PFC revenue: $280,750.

Brief description of proposed projects: Apron Expansion to the North, Terminal Area Drainage Improvements, Reconstruction of Apron, Animal Control/Security Fencing, Parking Lot Rehabilitation and Reconfiguration, Snow Removal Equipment, Land Acquisition for Ely Road, Relocation of Ely Road, Master Plan Study, Purchase Generator, Apron Expansion to the South, and Expansion of Terminal Building.

Class or classes of air carriers, which the public agency has requested, not be required to collect PFCs: Air Taxi/Commercial Service Operators filing FAA Form 1800-31.

Any person may inspect the application in person at the FAA office listed above under FOR FURTHER INFORMATION CONTACT.

In addition, any person may, upon request, inspect the application, notice and other documents germane to the application in person at the Pellston Regional Airport.

Issued in Des Plaines, Illinois on January 18, 2005.
Elliott Black,
Manager, Planning and Programming Branch, Airports Division, Great Lakes Region.

[FR Doc. 05-1472 Filed 1-26-05; 8:45 am]

BILLING CODE 4910-13-M